DEPARTMENT OF HEALTH AND HUMAN SERVICES

Health Resources and Services Administration

Agency Information Collection Activities: Proposed Collection: Comment Request

In compliance with the requirement for opportunity for public comment on proposed data collection projects (section 3506 (c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency; including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Bioterrorism Hospital Preparedness Program (NBHPR) Data Collection Instrument (DCI)—NEW

The Healthcare Systems Bureau (HSB), Division of Healthcare Preparedness (DHP), is proposing a Data Collection Instrument (DCI) to gather critical information from the 62 Awardees participating in the National Bioterrorism Hospital Preparedness Program (NBHPR).

The DCI will capture information related to: Performance measures, critical benchmarks, minimal levels of readiness, program statistics, policies and procedures, surge capacity elements, surge capacity as measured by exercises, and other pertinent information for programmatic improvement and tracking performance. The data will be gathered from mid-year progress reports on annual activities, final reports on annual activities, and progress indicator reports submitted to HRSA's HSB, DHP.

Awardees will indicate the progress made toward each of the financial and programmatic objectives noted on their cooperative agreement application (CAA) on the mid-year progress report. The final report on annual activities will require Awardees to provide additional details on how objectives were achieved and how the program funds were spent. The progress indicator report will require Awardees to outline improvements made to date toward achieving the program's critical benchmarks.

Currently, there is no uniform reporting system in place to capture mid-year, final, and indicator reporting data. A uniform system for data collection will provide the DHP with information to provide technical assistance and to track and monitor program outcomes. The DCI will provide the program with the ability to review progress and generate reports on financial and programmatic objectives. In addition, the reporting will increase HRSA's ability to quickly and efficiently analyze data, identify trends, make timely program decisions, and provide the Department of Health and Human Services (HHS), Congress, and other Agencies with data.

The burden estimate for Awardees to complete and submit a submission is as follows:

Submission type | Number of respondents | Responses per respondent | Total number of responses | Hours per response | Total burden hours
Mid-year Report | 62 | 1 | 62 | 45 | 2,790
Final Report | 62 | 1 | 62 | 45 | 2,790
Progress Indicator Report | 62 | 1 | 62 | 50 | 3,100
Total | 62 |  | 186 |  | 8,680

Send comments to Susan G. Queen, PhD, HRSA Reports Clearance Officer, Room 10-33, Parklawn Building, 5600 Fishers Lane, Rockville, MD 20857. Written comments should be received within 60 days of this notice.

Dated: January 19, 2007.
Caroline Lewis,
Acting Associate Administrator for Administration and Financial Management.

[FR Doc. E7-1273 Filed 1-25-07; 8:45 am]

BILLING CODE 4165-15-P